DEPARTMENT OF ENERGY

Federal Energy Regulatory Commission

[Docket No. AD09-9-000]

Small Hydropower Development in the United States; Notice of Small/Low-Impact Hydropower Webinar

October 13, 2010.

The Federal Energy Regulatory Commission will host a Small/Low-Impact Hydropower Webinar on November 10, 2010, from 12 noon to 1 p.m. Eastern Time. The webinar will be open to the public and advance registration is required.

The purpose of this webinar is to introduce the new Small/Low-Impact Hydropower Program website and walk participants through all phases of the licensing and exemption processes using the Web site. Specifically, the webinar will provide the opportunity for participants to learn about the small hydropower licensing process, find out how to get more information and assistance from FERC, and ask questions.

To register for this webinar, please go to https://www.ferc.gov/whats-new/registration/hydro-form-11-10-10.asp. Space is limited to the first 98 reservations. Once registered, you will receive a confirmation e-mail containing information about joining the webinar a few days prior to the start of the webinar.

For more information about this webinar, please contact Shana Murray at (202) 502-8333 or shana.murray@ferc.gov.

Kimberly D. Bose,
Secretary.

[FR Doc. 2010-26479 Filed 10-20-10; 8:45 am]

BILLING CODE 6717-01-P